DEPARTMENT OF JUSTICE

Notice of Lodging Proposed Consent Decree

In accordance with Departmental Policy, 28 CFR 50.7, notice is hereby given that a proposed Consent Decree in United States of America v. Mark and Amanda St. Pierre, Civil Action No. 1:08-cv-177 (D. Vt.), was lodged with the United States District Court for the District of Vermont on September 3, 2008.

This proposed Consent Decree concerns a complaint filed by the United States against Mark and Amanda St. Pierre, pursuant to sections 309(b), 309(d) and 404 of the Clean Water Act, 33 U.S.C. 1319(b), 1319(d) and 1344, to obtain injunctive relief from and impose civil penalties against the Defendants for violating the Clean Water Act by discharging pollutants without a permit into waters of the United States. The proposed Consent Decree resolves these allegations by requiring the Defendants to restore the impacted areas and perform mitigation and to pay a civil penalty. The Consent Decree also provides for the Defendants to perform a supplemental environmental project.

The Department of Justice will accept written comments relating to this proposed Consent Decree for thirty (30) days from the date of publication of this Notice. Please address comments to Joshua M. Levin, Senior Trial Attorney, U.S. Department of Justice, Environment and Natural Resources Division, Environmental Defense Section, P.O. Box 23986, Washington, DC 20026-3986, and refer to United States of America v. Mark and Amanda St. Pierre, DJ # 90-5-1-1-17229/1.

The proposed Consent Decree may be examined at the Clerk's Office, United States District Court for the District of Vermont, Federal Bldg, 5th Floor, 11 Elmwood Avenue, Burlington, VT 05401. In addition, the proposed Consent Decree may be viewed at http://www.usdoj.gov/enrd/Consent_Decrees.html.

Scott A. Schachter,
Assistant Section Chief, Environmental Defense Section, Environment and Natural Resources Division.

[FR Doc. E8-20987 Filed 9-9-08; 8:45 am]

BILLING CODE 4410-CW-P